DEPARTMENT OF THE INTERIOR

National Park Service

[NPS-WASO-NRNHL-23947; PPWOCRADI0, PCU00RP14.R50000]

National Register of Historic Places; Notification of Pending Nominations and Related Actions

AGENCY: National Park Service, Interior.

ACTION: Notice.

SUMMARY: The National Park Service is soliciting comments on the significance of properties nominated before July 29, 2017, for listing or related actions in the National Register of Historic Places.

DATES: Comments should be submitted by September 18, 2017.

ADDRESSES: Comments may be sent via U.S. Postal Service and all other carriers to the National Register of Historic Places, National Park Service, 1849 C St. NW., MS 7228, Washington, DC 20240.

SUPPLEMENTARY INFORMATION: The properties listed in this notice are being considered for listing or related actions in the National Register of Historic Places. Nominations for their consideration were received by the National Park Service before July, 29, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

DISTRICT OF COLUMBIA

District of Columbia

Chesapeake and Potomac Telephone Company, Cleveland-Emerson Exchange (Telecommunications Resources of Washington DC MPS), 4268 Wisconsin Ave. NW., Washington, MP100001578

Spasowski, Ambassador Romuald, House, 3101 Albemarle St. NW., Washington, SG100001579

IOWA

Johnson County

Johnson County Savings Bank, 102 S. Clinton St., Iowa City, SG100001580

MARYLAND

Prince George's County

Marenka House, 7300 Radcliffe Dr., College Park, SG100001581

MASSACHUSETTS

Suffolk County

Columbia Road—Bellevue Street Historic District, 400-500 blk. of Columbia Rd., portions of Bellevue St., Boston, SG100001582

NEW YORK

Erie County

Baptist Church of Springville, The (Boundary Increase), 37 N. Buffalo St., Springville, BC100001583

Linde Air Products Factory (Black Rock Planning Neighborhood MPS), 155 Chandler St., Buffalo, MP100001584

Genesee County

Newberry Building, 109-111 Main St., Batavia, SG100001585

Greene County

Oak Hill Historic District, NY 81, Oak Hill Rd., Giles Ln., Oak Hill, SG100001586

OHIO

Marion County

Marion Catholic School, 1001 & 1047 Mount Vernon Ave. & 590 Forest Lawn Dr., Marion, SG100001587

Stark County

East Main Street Historic District, 49-629 E. Main St., 40 N. Park, 77 S. Park, 532-570, 157 Prospect,40 N.-136 S. Arch, 40 S., Linden Aves., Alliance, SG100001588

OKLAHOMA

Garfield County

Babe's Package Store, 220 S. 3rd., Enid, SG100001589

Briggs, Eugene S., Auditorium, 2450 E. Maine, Enid, SG100001590

Security National Bank, 201 W. Broadway, Enid, SG100001591

Garvin County

Beaty School, Cty. Rd. 3210 at Royal Oaks Rd., Pauls Valley vicinity, SG100001592

Jackson County

New Orient Hotel, 101-111 E. Commerce St., Altus, SG100001593

Pittsburg County

Saints Cyril and Methodius Russian Orthodox Greek Catholic Church, 501 S. 3rd St., Hartshorne, SG100001594

Tulsa County

Church Studio, The, 304 S. Trenton Ave., Tulsa, SG100001595

WASHINGTON

Jefferson County

Lincoln School, 450 Fir St., Port Townsend, SG100001596

Snohomish County

Bush House, 308 5th St., Index, SG100001597

WISCONSIN

Milwaukee County

Kopperud Park Residential Historic District, 837-871 S. 76th (odd only), 824-862 S. 77th (even only) & 7624 W. Walker Sts., West Allis, SG100001598

Nunn-Bush Shoe Company Factory, 2821 N. 4th St., Milwaukee, SG100001599

Authority: 60.13 of 36 CFR part 60.

Dated: August 3, 2017.
Christopher Hetzel,
Acting Chief, National Register of Historic Places/National Historic Landmarks Program.

[FR Doc. 2017-18525 Filed 8-31-17; 8:45 am]

BILLING CODE 4312-52-P